ENVIRONMENTAL PROTECTION AGENCY

40 CFR Parts 60, 61, and 63

[EPA-R06-OAR-2016-0091; FRL-9975-92-Region 6]

New Source Performance Standards and National Emission Standards for Hazardous Air Pollutants; Delegation of Authority to New Mexico

AGENCY: Environmental Protection Agency (EPA).

ACTION: Proposed rule.

SUMMARY: The New Mexico Environment Department (NMED has submitted updated regulations for receiving delegation and approval of a program for the implementation and enforcement of certain New Source Performance Standards (NSPS) and National Emission Standards for Hazardous Air Pollutants (NESHAP) for all sources (both Title V and non-Title V sources). These updated regulations apply to certain NSPS promulgated by the EPA at part 60, as amended between September 24, 2013 and January 15, 2017; certain NESHAP promulgated by the EPA at part 61, as amended between January 1, 2011 and January 15, 2017; and other NESHAP promulgated by the EPA at part 63, as amended between August 30, 2013 and January 15, 2017, as adopted by the NMED. The delegation of authority under this action does not apply to sources located in Bernalillo County, New Mexico or to sources located in Indian Country. The EPA is providing notice that it is updating the delegation of certain NSPS to NMED and proposing to approve the delegation of certain NESHAP to NMED.

DATES: Written comments should be received on or before May 14, 2018.

ADDRESSES: Submit your comments, identified by Docket ID No. EPA-R06-OAR-2016-0091, at http://www.regulations.gov or via email to barrett.richard@epa.gov. For additional information on how to submit comments see the detailed instructions in the ADDRESSES section of the direct final rule located in the rules section of this issue of the Federal Register.

FOR FURTHER INFORMATION CONTACT: Mr. Rick Barrett (6MM-AP), (214) 665-7227; email: barrett.richard@epa.gov.

SUPPLEMENTARY INFORMATION: In the final rules section of this issue of the Federal Register, the EPA is approving NMED's request for delegation of authority to implement and enforce certain NSPS and NESHAP for all sources (both Title V and non-Title V sources). NMED has adopted certain NSPS and NESHAP by reference into New Mexico's state regulations. In addition, the EPA is waiving certain notification requirements required by the delegated standards so that sources will only need to notify and report to NMED, thereby avoiding duplicative notification and reporting to the EPA.

The EPA is taking direct final action without prior proposal because the EPA views this as a noncontroversial action and anticipates no relevant adverse comments. A detailed rationale for the approval is set forth in the direct final rule. If no relevant adverse comments are received in response to this action, no further activity is contemplated. If the EPA receives relevant adverse comments, the direct final rule will be withdrawn, and all public comments received will be addressed in a subsequent final rule based on this proposed rule. The EPA will not institute a second comment period. Any parties interested in commenting should do so at this time.

For additional information, see the direct final rule which is located in the rules section of this issue of the Federal Register.

Dated: March 22, 2018.
Wren Stenger,
Director, Multimedia Division, Region 6.

[FR Doc. 2018-07326 Filed 4-12-18; 8:45 am]

BILLING CODE 6560-50-P